NUCLEAR REGULATORY COMMISSION

Notice of Availability of Model Application Concerning Technical Specification Improvement To Extend Accumulator Completion Times for Westinghouse Plants Using the Consolidated Line Item Improvement Process

AGENCY: Nuclear Regulatory Commission.

ACTION: Notice of availability.

SUMMARY: Notice is hereby given that the staff of the Nuclear Regulatory Commission (NRC) has prepared a model application for changing the completion time from 1 hour to 24 hours for Condition B of Technical Specification (TS) 3.5.1, “Accumulators,” for Westinghouse nuclear steam supply system (NSSS) plants. The purpose of this model is to permit the NRC to efficiently process amendments that propose to modify TS to extend the completion time for accumulators. Licensees of nuclear power reactors to which the model applies may request amendments utilizing the model application.

DATES: The NRC staff issued a Federal Register notice (67 FR 46542, July 15, 2002) which provided a model safety evaluation (SE) and a model no significant hazards consideration (NSHC) determination relating to the extension of the completion time for TS actions related to accumulators. The NRC staff hereby announces that the model SE and NSHC determination may be referenced in plant-specific applications to extend the accumulator completion times from 1 hour to 24 hours. The staff has posted a model application on the NRC web site to assist licensees in using the consolidated line item improvement process (CLIIP) to request the subject TS change. The NRC staff can most efficiently consider applications based upon the model application if the application is submitted within a year of this Federal Register notice.

FOR FURTHER INFORMATION CONTACT: William Reckley, Mail Stop: O-7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specifications Changes for Power Reactors,” was issued on March 20, 2000. The CLIIP is intended to improve the efficiency of NRC licensing processes. This is accomplished by processing proposed changes to the standard technical specifications (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the extension from 1 hour to 24 hours of the completion time for Condition B of TS 3.5.1, which defines requirements for accumulators. Accumulators are part of the emergency core cooling system and consist of tanks partially filled with borated water and pressurized with nitrogen gas. The contents of the tank are discharged to the reactor coolant system if, as during a loss of coolant accident, the coolant pressure decreases to below the accumulator pressure. Condition B of TS 3.5.1 specifies a completion time to restore an accumulator to operable status when it has been declared inoperable for a reason other than the boron concentration of the water in the accumulator not being within the required range. This change was proposed for incorporation into the STS by the Westinghouse Owners Group participants in the Technical Specification Task Force (TSTF) and is designated TSTF-370. TSTF-370 is supported by WCAP-15049-A, “Risk-Informed Evaluation of an Extension to Accumulator Completion Times,” dated May 18, 1999. TSTF-370 can be viewed on the NRC Web site (http://www.nrc.gov).

Applicability

This proposed TS change to revise the completion time from 1 hour to 24 hours for Condition B in TS 3.5.1 is applicable to all Westinghouse NSSS plants, regardless of plant vintage and number of loops.

The CLIIP does not prevent licensees from requesting an alternative approach or proposing the changes without the attached model SE and the NSHC. Variations from the approach recommended in this notice may, however, require additional review by the NRC staff and may increase the time and resources needed for the review.

Public Notices

In a notice in the Federal Register dated July 15, 2002 (67 FR 46542), the NRC staff requested comment on the use of the CLIIP to process requests to extend the completion time from 1 hour to 24 hours for Condition B of TS 3.5.1, “Accumulators.”

TSTF-370, as well as the NRC staff's SE and model application, may be examined, and/or copied for a fee, at the NRC's Public Document Room, located at One White Flint North, Public File Area 01 F21, 11555 Rockville Pike, Rockville, Maryland. Publicly available records are accessible electronically from the ADAMS Public Library component on the NRC Web site, (the Electronic Reading Room).

The NRC staff did not receive comments following the notice soliciting comments about the use of the CLIIP for licensees to adopt TSTF-370. As described in the model application prepared by the staff, licensees may reference in their plant-specific applications to adopt this change to TS the SE, NSHC determination, and environmental assessment previously published in the Federal Register (67 FR 46452, July 15, 2002).

Dated in Rockville, Maryland, this 6th day of March, 2003.
For the Nuclear Regulatory Commission.
Herbert N. Berkow,
Director, Project Directorate IV, Division of Licensing Project Management, Office of Nuclear Reactor Regulation.

[FR Doc. 03-5871 Filed 3-11-03; 8:45 am]

BILLING CODE 7590-01-P